DEPARTMENT OF LABOR

Employment and Training Administration

[TA-W-37,987]

Hobman Corporation; Jim Thorpe, Pennsylvania; Notice of Affirmative Determination Regarding Application for Reconsideration

By letter of November 19, 2000, the petitioners requested administrative reconsideration of the Department of Labor's Notice of Negative Determination Regarding Eligibility to Apply for Worker Adjustment Assistance, applicable to workers of the subject firm. The denial notice was signed on October 31, 2000, and was published in the Federal Register on November 16, 2000 (65 FR 69342).

The petitioners assert that the Department's investigation did not include PC boards produced by the workers in the time period relevant to the investigation (1998 through July 2000).

Conclusion

After careful review of the application, I conclude that the claim is of sufficient weight to justify reconsideration of the Department of Labor's prior decision. The application is, therefore, granted.

Signed at Washington, DC, this 6th day of February, 2001.
Linda G. Poole,
Certifying Officer, Division of Trade Adjustment Assistance.

[FR Doc. 01-4122 Filed 2-16-01; 8:45 am]

BILLING CODE 4510-30-M